DEPARTMENT OF HOMELAND SECURITY

Federal Emergency Management Agency

[Docket ID FEMA-2017-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 18, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: May 2, 2017.
Roy E. Wright,
Deputy Associate Administrator for Insurance and Mitigation, Department of Homeland Security, Federal Emergency Management Agency.

I. Watershed-Based Studies

Community | Community map repository address
Upper Saline Watershed
Grant County, Arkansas and Incorporated Areas
Docket No.: FEMA-B-1616
City of Sheridan | City Hall, 106 West Bell Street, Sheridan, AR 72150.
Town of Leola | Town Hall, 400 Lee Street, Leola, AR 72084.
Town of Poyen | Town Hall, 111 North Front Street, Poyen, AR 72128.
Town of Prattsville | Mayor's Office, 9251 Highway 270 West, Prattsville, AR 72129.
Town of Tull | Community Center, 8208 North Main Street, Tull, AR 72015.
Unincorporated Areas of Grant County | Grant County Assessor's Office, 101 West Center Street, Room 102, Sheridan, AR 72150.

II. Non-Watershed-Based Studies

Community | Community map repository address
Washington County, Maine (All Jurisdictions)
Docket No.: FEMA-B-1642
Baring Plantation | Land Use Planning Commission, 106 Hogan Road, Suite 8, Bangor, ME 04401.
City of Calais | City Building, 11 Church Street, Calais, ME 04619.
City of Eastport | City Hall, 78 High Street, Eastport, ME 04631.
Grand Lake Stream Plantation | Land Use Planning Commission, 106 Hogan Road, Suite 8, Bangor, ME 04401.
Passamaquoddy Tribe At Pleasant Point | Passamaquoddy Tribal Office, 136 County Road, Perry, ME 04667.
Town of Addison | Town Hall, 334 Water Street, Addison, ME 04606.
Town of Alexander | Town Hall, 50 Cooper Road, Alexander, ME 04694.
Town of Baileyville | Town Office, 63 Broadway Street, Baileyville, ME 04694.
Town of Beals | Town Office, 11 Big Pond Road, Beals, ME 04611.
Town of Charlotte | Town Office, 1098 Ayers Junction Road, Charlotte, ME 04666.
Town of Cherryfield | Town Office, 12 Municipal Way, Cherryfield, ME 04622.
Town of Columbia | Town Hall, 106 Epping Road, Columbia, ME 04623.
Town of Columbia Falls | Town Office, 8 Point Street, Columbia Falls, ME 04623.
Town of Crawford | First Selectman's Office, 359 Crawford Arm Road, Crawford, ME 04694.
Town of Culter | Town Office, 2655 Cutler Road, Cutler, ME 04626.
Town of Danforth | Town Office, 18 Central Street, Danforth, ME 04424.
Town of Dennysville | Town Office, 2 Main Street, Dennysville, ME 04628.
Town of East Machias | Town Office, 32 Cutler Road, East Machias, ME 04630.
Town of Harrington | Town Office, 114 East Main Street, Harrington, ME 04643.
Town of Jonesboro | Town Office, 23 Station Road, Jonesboro, ME 04648.
Town of Jonesport | Town Office, 70 Snare Creek Lane, Jonesport, ME 04649.
Town of Lubec | Town Office, 40 School Street, Lubec, ME 04652.
Town of Machias | Town Office, 7 Court Street, Suite 1, Machias, ME 04654.
Town of Machiasport | Town Office, 8 Unity Square, Machiasport, ME 04655.
Town of Marshfield | Town Office, 187 Northfield Road, Marshfield, ME 04654.
Town of Milbridge | Town Office, 22 School Street, Milbridge, ME 04658.
Town of Northfield | Town Hall, 1940 Northfield Road, Northfield, ME 04654.
Town of Pembroke | Town Office, 48 Old County Road, Pembroke, ME 04666.
Town of Perry | Town Office, 898 U.S. Route 1, Perry, ME 04667.
Town of Princeton | Town Office, 15 Depot Street, Princeton, ME 04668.
Town of Robbinston | Town Office, 904 U.S. Route 1, Robbinston, ME 04671.
Town of Roque Bluffs | Town Hall, 3 Roque Bluffs Road, Roque Bluffs, ME 04654.
Town of Steuben | Town Office, 294 U.S. Route 1, Steuben, ME 04680.
Town of Talmadge | Chairperson's Office, 47 Talmadge Road, Talmadge, ME 04492.
Town of Topsfield | Town Office, 48 North Road, Topsfield, ME 04490.
Town of Vanceboro | Town Office, 101 High Street, Vanceboro, ME 04491.
Town of Wesley | Town Office, 2 Whining Pines Drive, Wesley, ME 04686.
Town of Whiting | Town Office, 169 U.S. Route 1, Whiting, ME 04691.
Town of Whitneyville | Town Office, 42 South Main Street, Whitneyville, ME 04654.
Township of Brookton | Land Use Planning Commission, 106 Hogan Road, Suite 8, Bangor, ME 04401.
Township of Edmunds | Land Use Planning Commission, 106 Hogan Road, Suite 8, Bangor, ME 04401.
Township of Lambert Lake | Land Use Planning Commission, 106 Hogan Road, Suite 8, Bangor, ME 04401.
Township of Trescott | Land Use Planning Commission, 106 Hogan Road, Suite 8, Bangor, ME 04401.
Fayette County, Pennsylvania (All Jurisdictions)
Docket No.: FEMA-B-1466 and FEMA-B-1546
Borough of Belle Vernon | Borough Municipal Building, 10 Main Street, Belle Vernon, PA 15012.
Borough of Brownsville | Borough Municipal Building, 200 2nd Street, Brownsville, PA 15417.
Borough of Dawson | Borough Building, 209 Howell Street, Dawson, PA 15428.
Borough of Dunbar | Borough Building, 47 Connellsville Street, Dunbar, PA 15431.
Borough of Fairchance | Borough Building, 125 West Church Street, Fairchance, PA 15436.
Borough of Fayette City | Borough Hall, 340 2nd Street, Fayette City, PA 15438.
Borough of Markleysburg | Borough Municipal Building, 150 Main Street, Markleysburg, PA 15459.
Borough of Masontown | Borough Municipal Center, 1 East Church Avenue, Masontown, PA 15461.
Borough of Newell | Borough Municipal Building, 412 2nd Street, Newell, PA 15466.
Borough of Ohiopyle | Borough Building, Rear 17 Sherman Street, Ohiopyle, PA 15470.
Borough of Perryopolis | Borough Building, 312 Indpendence Street, Perryopolis, PA 15473.
Borough of Point Marion | Borough Building, 426 Morgantown Street, Point Marion, PA 15474.
Borough of Smithfield | Borough Building, 14 Water Street, Smithfield, PA 15478.
Borough of South Connellsville | Borough Building, 1503 South Pittsburgh Street, South Connellsville, PA 15425.
Borough of Vanderbilt | Borough Building, 196 Main Street, Vanderbilt, PA 15486.
City of Connellsville | City Hall, 110 North Arch Street, Connellsville, PA 15425.
City of Uniontown | City Hall, 20 North Gallatin Avenue, Uniontown, PA 15401.
Township of Brownsville | Township Building, 232 Brown Street, Brownsville, PA 15417.
Township of Bullskin | Bullskin Township Municipal Building, 178 Shenandoah Road, Connellsville, PA 15425.
Township of Connellsville | Township Secretary's Office, 166 McCoy Hollow Road, Connellsville, PA 15425.
Township of Dunbar | Dunbar Township Municipal Building, 128 Township Drive, Dunbar, PA 15431.
Township of Franklin | Franklin Township Building, 353 Town and Country Road, Vanderbilt, PA 15486.
Township of Georges | Georges Township Municipal Building, 1151 Township Drive, Uniontown, PA 15401.
Township of German | German Township Municipal Building, 2 Long Street, McClellandtown, PA 15458.
Township of Henry Clay | Henry Clay Township Building, 156 Martin Road, Markleysburg, PA 15459.
Township of Jefferson | Jefferson Township Municipal Building, 262 Stuckslager Road, Perryopolis, PA 15473.
Township of Lower Tyrone | Lower Tyrone Township Building, 456 Banning Road, Dawson, PA 15428.
Township of Luzerne | Luzerne Township Municipal Building, 415 Hopewell Road, Brownsville, PA 15417.
Township of Menallen | Menallen Township Municipal Building, 427 Searight-Herbert Road, Uniontown, PA 15401.
Township of Nicholson | Nicholson Township Municipal Building, 142 Woodside Old Frame Road, Smithfield, PA 15478.
Township of North Union | North Union Township Municipal Building, 7 South Evans Station Road, Lemont Furnace, PA 15456.
Township of Perry | Perry Township Building, 1 Township Drive, Star Junction, PA 15482.
Township of Redstone | Redstone Township Municipal Building, 225 Twin Hills Road, Grindstone, PA 15442.
Township of Saltlick | Saltlick Township Municipal Building, 147 Municipal Building Road, Melcroft, PA 15462.
Township of South Union | South Union Township Building, 151 Township Drive, Uniontown, PA 15401.
Township of Springfield | Springfield Township Municipal Building, 755 Mill Run Road, Mill Run, PA 15464.
Township of Springhill | Springhill Township Municipal Building, 198 Lake Lynn Road, Lake Lynn, PA 15451.
Township of Stewart | Stewart Township Municipal Building, 373 Grover Road, Ohiopyle, PA 15470.
Township of Upper Tyrone | Upper Tyrone Township Building, 170 Municipal Drive, Connellsville, PA 15425.
Township of Washington | Washington Township Municipal Building, 1390 Fayette Avenue, Belle Vernon, PA 15012.
Township of Wharton | Wharton Township Municipal Building, 114 Elliotsville Road, Farmington, PA 15437.
Dorchester County, South Carolina and Incorporated Areas
Docket No.: FEMA-B-1445
Town of Harleyville | Town Hall, 119 South Railroad Avenue, Harleyville, SC 29448.
Town of Reevesville | Town Hall, 6800 Johnston Avenue, Reevesville, SC 29471.
Town of Ridgeville | Town Hall, 105 School Street, Ridgeville, SC 29472.
Town of St. George | Town Hall, 305 Ridge Street, St. George, SC 29477.
Town of Summerville | Engineering Department, 200 South Main Street, Summerville, SC 29483.
Unincorporated Areas of Dorchester County | Dorchester County Public Works Facility, 2120 East Main Street, Dorchester, SC 29437.

[FR Doc. 2017-10166 Filed 5-18-17; 8:45 am]

BILLING CODE 9110-12-P